DEPARTMENT OF INTERIOR

National Park Service

Agenda for the January 17th 2001 Public Meeting of the Advisory Commission for the San Francisco Maritime National Historical Park

Public Meeting, Firehouse Building F, Lower Fort Mason Center, 10:00 a.m.-12:15 p.m.

10:00 a.m.: Welcome Neil Chaitin, Chairman

Opening Remarks—Neil Chaitin, Chairman

Approval of Minutes from Previous Meeting

10:15 a.m.: William Thomas, Superintendent

10:30 a.m.: WAPAMA Relocation to Richmond—James White, Moorings & Warehouse Foreman

10:40 a.m.: Ship Preservation Update—Wayne Boykin, Ships Manager

10:50 a.m.: BALCLUTHA 'Tween Decks, Haslett Visitor Center—Marc Hayman, C, Interpretation & Resource Management

11:30 a.m.: San Francisco Maritime National Park Association—Kathy Lohan, Executive Director

11: 45 a.m.: Public Comments and Questions

12:00 p.m.: Agenda items/Date for next meeting

William G. Thomas,
Superintendent.

[FR Doc. 00-29671 Filed 11-20-00; 8:45 am]

BILLING CODE 4310-70-P